NUCLEAR REGULATORY COMMISSION

Sunshine Act Meeting

Agency Holding the Meeting: Nuclear Regulatory Commission.

Dates: Weeks of February 9, 16, 23, March 1, 8, 15, 2004.

Place: Commissioners' Conference Room, 11555 Rockville Pike, Rockville, Maryland.

Status: Public and Closed.

Matters to be Considered:

Week of February 9, 2004

There are no meetings scheduled for the Week of February 9, 2004.

Week of February 16, 2004—Tentative

Wednesday, February 18, 2004

9:30 a.m. Briefing on Status of Office of Chief Financial Officer Programs, Performance, and Plans (Public Meeting) (Contact: Edward L. New, 301-415-5646).

This meeting will be webcast live at the Web address— www.nrc.gov.

Week of February 23, 2004—Tentative

Wednesday, February 25, 2004

9 a.m. Discussion of Security Issues (Closed—Ex. 1).

Thursday, February 26, 2004

9:30 a.m. Meeting with UK Regulators to Discuss Security Issues (Closed—Ex. 1).

1:30 p.m. Status of Davis Besse Lessons Learned Task Force Issues (Public Meeting) (Contact: Brendan Moroney, 301-415-3974).

This meeting will be webcast live at the Web address— www.nrc.gov.

Week of March 1, 2004—Tentative

Tuesday, March 2, 2004

9:30 a.m. Meeting with Advisory Committee on the Medical Uses of Isotopes (ACMUI) & NRC Staff (Public Meeting) (Contact: Angela Williamson, 301-415-5030).

This meeting will be webcast live at the Web address— www.nrc.gov.

Wednesday, March 3, 2004

9:30 a.m. 25th Anniversary Three Mile Island (TMI) Unit 2 Accident Presentation (Public Meeting) (Contact: Sam Walker, 301-415-1965).

This meeting will be webcast live at the Web address— www.nrc.gov.

2:45 p.m. Discussion of Security Issues (Closed—Ex. 1).

Thursday, March 4, 2004

1:30 p.m. Briefing on Status of Office of Nuclear Material Safety and Safeguards (NMSS) Programs, Performance, and Plans—Waste Safety (Public Meeting) (Contact: Claudia Seelig, 301-415-7243).

This meeting will be webcast live at the Web address— www.nrc.gov.

Week of March 8, 2004—Tentative

Tuesday, March 9, 2004

9:30 a.m. Briefing on Status of Office of Nuclear Material Safety and Safeguards (NMSS) Programs, Performance, and Plans—Material Safety (Public Meeting) (Contact: Claudia Seelig, 301-415-7243).

This meeting will be webcast live at the Web address— www.nrc.gov.

1:30 p.m. Discussion of Security Issues (Closed—Ex. 1).

Week of March 15, 2004—Tentative

There are no meetings scheduled for the Week of March 15, 2004.

*The schedule for Commission meetings is subject to change on short notice. To verify the status of meetings call (recording)—(301) 415-1292. Contact person for more information: Timothy J. Frye, (301) 415-1651.

* * * * *

ADDITIONAL INFORMATION: By a vote of 3-0 on January 29, the Commission determined pursuant to U.S.C. 552b(e) and section 9.107(a) of the Commission's rules that “Affirmation of COMSECY-04-0004 (Draft Notice and Order for Louisiana Energy Services)” be held on January 30, and on less than one week's notice to the public.

By a vote of 3-0 on February 4, the Commission determined pursuant to U.S.C. 552b(e) and section 9.107(a) of the Commission's rules that “Affirmation of SECY-04-0015 (Private Fuel Storage Independent Spent Fuel Storage Installation)” be held on February 5, and on less than one week's notice to the public.

* * * * *

The NRC Commission Meeting Schedule can be found on the Internet at www.nrc.gov/what-we-do/policy-making/schedule.html.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: February 5, 2004.
Timothy J. Frye,
Technical Coordinator, Office of the Secretary.

[FR Doc. 04-2932 Filed 2-6-04; 9:21 am]

BILLING CODE 7590-01-M